DEPARTMENT OF THE INTERIOR

National Park Service

[NPS-WASO-NAGPRA-NPS0033704; PPWOCRADN0-PCU00RP14.R50000]

Notice of Inventory Completion: U.S. Department of the Interior, National Park Service, Big Hole National Battlefield, Wisdom, MT

AGENCY: National Park Service, Interior.

ACTION: Notice.

SUMMARY: The U.S. Department of the Interior, National Park Service, Big Hole National Battlefield has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Big Hole National Battlefield. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Big Hole National Battlefield at the address in this notice by May 16, 2022.

FOR FURTHER INFORMATION CONTACT: Stephen Thede, Superintendent, Big Hole National Battlefield, P.O. Box 237, Wisdom, MT 59761 or Nez Perce National Historical Park, 39063 US Hwy. 95, Lapwai, ID 83540, telephone (208) 843-7011, email steve_thede@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Big Hole National Battlefield, Wisdom, MT, and in the physical custody of Nez Perce National Historical Park, Lapwai, ID. The human remains and associated funerary objects were removed from Big Hole National Battlefield, Beaverhead County, MT.

This notice is published as part of the National Park Service's administrative responsibilities under NAGPRA, 25 U.S.C. 3003(d)(3). The determinations in this notice are the sole responsibility of the Superintendent, Big Hole National Battlefield.

Consultation

A detailed assessment of the human remains was made by National Park Service professional staff in consultation with representatives of the Confederated Tribes of the Colville Reservation; Confederated Tribes of the Umatilla Indian Reservation [previously listed as Confederated Tribes of the Umatilla Reservation, Oregon]; and the Nez Perce Tribe [previously listed as Nez Perce Tribe of Idaho] (hereafter referred to as “The Tribes”).

History and Description of the Remains

At an unknown date between 1915 and 1923, human remains representing, at minimum, one individual were removed from Big Hole National Battlefield in Beaverhead County, MT, by Thomas C. Sherill, summer caretaker of the Battlefield. The human remains are a partial braid of human hair. When Mr. Sherrill passed away in 1927, the human remains were transferred to his nephew, Theodore E. Sherill. In 1966, they were purchased from Theodore Sherill by the National Park Service. No known individual was identified. The 60 associated funerary objects are 56 blue glass trade beads and four red glass trade beads.

At the time of acquisition park managers were under the belief that the human remains were those of a young Euro-American female who was allegedly living among the Nez Perce during the battle at Big Hole on August 9, 1877. This belief was based on a story perpetuated by Thomas C. Sherrill and his nephew of the presence of a young, blonde or light-brown haired female who perished during the battle at Big Hole and was intentionally buried by the Nez Perce.

National Park Service professional staff conducted a thorough and detailed analysis of the partial braid of hair and have determined that it is in fact dark brown to black in color, not light brown. It seems likely the lighter color is the result of eumelanin pigment in the hair breaking down over time, which is consistent with inhumation in the wet, oxidizing conditions found where the braid was collected. The texture of the hair in the interior portions of the braid is also very coarse. The dark color, taken in context with the very coarse and thick texture of the hair, make it very unlikely to be representative of a young, blonde-to-light-brown-haired female of Euro-American descent.

The first and only known reference to the presence of a young female of Euro-American descent at the Big Hole battle is from Thomas C. Sherrill himself. National Park Service professional staff have conducted a thorough and complete review of all known historical documentation (including first-hand accounts of both military and Nez Perce participants) relating to the battle at Big Hole and the larger Nez Perce War of 1877 and all archeological investigations conducted at Big Hole National Battlefield and has concluded that there is no credible evidence for the presence of a young female of Euro-American descent at the battle of Big Hole in 1877.

Based on the review of all known historical and archeological evidence, an analysis of the hair, the age and style of the beads found with the hair, and the provenance of the finds, the human remains are most likely that of an individual of Native American descent. The origin of the find, eroding out of the riverbank adjacent to the location of the 1877 Nez Perce encampment, is in keeping with the historical and archeological documentation. There are numerous historical accounts and Nez Perce oral tradition that the Nez Perce buried their dead along the riverbank following the battle.

Determinations Made by the U.S. Department of the Interior, National Park Service, Big Hole National Battlefield

Officials of the U.S. Department of the Interior, National Park Service, Big Hole National Battlefield have determined that:

• Pursuant to 25 U.S.C. 3001(9), the human remains described in this notice represent the physical remains of one individual of Native American ancestry.

• Pursuant to 25 U.S.C. 3001(3)(A), the 60 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Stephen Thede, Superintendent, Big Hole National Battlefield, P.O. Box 237, Wisdom, MT 59761 or Nez Perce National Historical Park, 39063 US Hwy. 95, Lapwai, ID 83540, telephone (208) 843-7011, email steve_thede@nps.gov, by May 16, 2022. After that date, if no additional requestors have come forward, transfer of control of the human remains and associated funerary objects to The Tribes may proceed.

The U.S. Department of the Interior, National Park Service, Big Hole National Battlefield is responsible for notifying The Tribes that this notice has been published.

Dated: April 7, 2022.
Melanie O'Brien,
Manager, National NAGPRA Program.

[FR Doc. 2022-08121 Filed 4-14-22; 8:45 am]

BILLING CODE 4312-52-P